DEPARTMENT OF TRANSPORTATION

Federal Aviation Administration

14 CFR Part 39

[Docket No. FAA-2005-20512; Directorate Identifier 2004-SW-35-AD; Amendment 39-14160; AD 2005-13-23]

RIN 2120-AA64

Airworthiness Directives; Eurocopter France Model EC 155B, EC155B1, SA-365N, SA-365N1, AS-365N2, and AS 365 N3 Helicopters

AGENCY: Federal Aviation Administration, DOT.

ACTION: Final rule.

SUMMARY: This amendment supersedes an existing airworthiness directive (AD) for Eurocopter France (Eurocopter) Model EC 155B, SA-365N and N1, AS-365N2, and AS 365 N3 helicopters. That AD currently requires inspecting the hydraulic brake hose (hose) for crazing, pinching, distortion, or leaks at the torque link hinge and replacing the hose, if necessary. That AD also requires inspecting the hose and the emergency flotation gear pipe to ensure adequate clearance, and adjusting the landing gear leg, if necessary. This amendment requires the same actions as the existing AD and adds another model helicopter to the applicability. This amendment is prompted by notification by the manufacturer and the European Authority that another affected model helicopter, the Model EC155B1, may have the same unsafe condition and should be added to the existing AD. The actions specified by this AD are intended to prevent failure of a hose, resulting in failure of hydraulic pressure to the brakes on the affected landing gear wheel, and subsequent loss of control of the helicopter during a run-on landing.

DATES: Effective July 29, 2005.

The incorporation by reference of certain publications listed in the regulations is approved by the Director of the Federal Register as of July 29, 2005.

ADDRESSES: You may get the service information identified in this AD from American Eurocopter Corporation, 2701 Forum Drive, Grand Prairie, Texas 75053-4005, telephone (972) 641-3460, fax (972) 641-3527.

Examining the Docket

You may examine the docket that contains this AD, any comments, and other information on the Internet at http://dms.dot.gov, or at the Docket Management System (DMS), U.S. Department of Transportation, 400 Seventh Street, SW., Room PL-401, on the plaza level of the Nassif Building, Washington, DC.

FOR FURTHER INFORMATION CONTACT: Uday Garadi, Aviation Safety Engineer, FAA, Rotorcraft Directorate, Safety Management Group, Fort Worth, Texas 76193-0110, telephone (817) 222-5123, fax (817) 222-5961.

SUPPLEMENTARY INFORMATION: A proposal to amend 14 CFR part 39 by superseding AD 2003-18-03, Amendment 39-13294 (68 FR 52832, September 8, 2003), for the specified model helicopters was published in the Federal Register on March 8, 2005 (70 FR 11166). The action proposed to add the Eurocopter Model EC155B1 helicopters to the applicability and continue to require, within the next 10 hours time-in-service (TIS), inspecting the hose for crazing, pinching, distortion, or leaks at the torque link hinge and replacing the hose before further flight, if necessary. Also proposed was continuing to require, at the next 100-hour TIS inspection, inspecting the hose and the emergency flotation gear pipe to ensure adequate clearance, and adjusting the landing gear leg, if necessary.

The Direction Générale De L'Aviation Civile (DGAC), the airworthiness authority for France, notified us that an unsafe condition may exist on Eurocopter Model EC 155 B1 helicopters as well as the other affected model helicopters that are included in AD 2003-18-03. The DGAC has advised in their AD No. F-2004-099, dated July 7, 2004, that a report of a wheel brake hose compression due to interference with a clamp that attaches the emergency flotation gear pipe led to the issue of AD No. 2002-475-007, which defined measures applicable to EC 155 version B aircraft. DGAC AD No. 2002-475-007 was cancelled by its Revision 1, and the DGAC issued AD No. F-2004-099, dated July 7, 2004, which supersedes and covers the requirements of AD 2002-475-007, extends its affectivity to EC 155 version B1 aircraft, and refers to revised service information, with no change to the technical content. The DGAC issued that AD after Eurocopter issued Alert Service Bulletin No. 32A004, Revision 1, dated June 16, 2004. The revised service bulletin added the Eurocopter Model EC155B1 to it's applicability but didn't change any technical content.

Eurocopter has also replaced Alert Telex No. 32.00.09, dated July 31, 2002, with Alert Service Bulletin No. 32.00.09, dated October 27, 2003 that contained no technical changes. The service bulletin applies to Eurocopter Model AS365N, N1, N2, and N3 helicopters. The DGAC classified this service bulletin as mandatory and issued AD No. F-2002-474-058 R1, dated March 3, 2004. This superseding AD contains references to both of these revised documents.

These helicopter models are manufactured in France and are type certificated for operation in the United States under the provisions of 14 CFR 21.29 and the applicable bilateral agreement. Pursuant to the applicable bilateral agreement, the DGAC has kept us informed of the situation described above. We have examined the findings of the DGAC, reviewed all available information, and determined that AD action is necessary for products of these type designs that are certificated for operation in the United States.

Interested persons have been afforded an opportunity to participate in the making of this amendment. No comments were received on the proposal or on our determination of the cost to the public. We have determined that air safety and the public interest require the adoption of the rule as proposed.

We estimate that this AD will affect 48 helicopters of U.S. registry. It will take approximately 5 work hours per helicopter to accomplish each inspection and 5 work hours to replace any parts, as necessary. The average labor rate is $65 per work hour. Required parts will cost approximately $459 for the hose; if replacing the hose on two sides is required, the cost is approximately $918. Based on these figures, the total cost impact of this AD on U.S. operators is estimated to be $1,568 per helicopter, or $56,448 for the entire fleet, assuming 75 percent of the fleet (36 helicopters) is equipped with emergency flotation gear, that one inspection is done, and that the hose on two sides is replaced on those 36 helicopters).

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD. See the DMS to examine the economic evaluation.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-13294 (68 FR 52832, September 8, 2003), and by adding a new airworthiness directive (AD), Amendment 39-14160, to read as follows:

2005-13-23 Eurocopter France: Amendment 39-14160. Docket No. FAA-2005-20512; Directorate Identifier 2004-SW-35-AD. Supersedes AD 2003-18-03, Amendment 39-13294, Docket No. 2002-SW-53-AD.

Applicability: Model EC 155B, EC155B1, SA-365N, SA-365N1, AS-365N2, and AS 365 N3 helicopters, with emergency flotation gear installed, certificated in any category.

Compliance: Required as indicated, unless accomplished previously.

To prevent failure of a hydraulic brake hose (hose), resulting in failure of hydraulic pressure to the brakes on the affected landing gear wheel and subsequent loss of control of the helicopter during a run-on landing, accomplish the following:

(a) Within 10 hours time-in-service (TIS), inspect the hose for crazing, pinching, distortion, or leaks as illustrated in Area A of Figure 1 of Eurocopter Alert Service Bulletin No. 32.00.09, dated October 27, 2003 (ASB No. 32.00.09), for Model SA-365N and N1, AS-365N2, and AS 365 N3 helicopters, and Eurocopter Alert Service Bulletin No. 32A004, Revision 1, dated June 16, 2004 (ASB No. 32A004R1), for Model EC 155B and EC155B1 helicopters.

(b) If crazing, pinching, distortion, or leaks exist, replace the hose with an airworthy hose before further flight.

(c) At the next 100-hour TIS inspection, inspect the hose and the emergency flotation gear pipe to ensure adequate clearance and adjust the landing gear leg, if necessary, in accordance with the Operational Procedure, paragraph 2.B.2., of ASB No. 32.00.09 or ASB No. 32A004R1, as applicable.

(d) To request a different method of compliance or a different compliance time for this AD, follow the procedures in 14 CFR 39.19. Contact the Safety Management Group, Rotorcraft Directorate, FAA, for information about previously approved alternative methods of compliance.

(e) The inspections and adjustments shall be done in accordance with the specified portions of Eurocopter Alert Service Bulletin No. 32.00.09, dated October 27, 2003, or Eurocopter Alert Service Bulletin No. 32A004, Revision 1, dated June 16, 2004, as applicable. The Director of the Federal Register approved this incorporation by reference in accordance with 5 U.S.C. 552(a) and 1 CFR part 51. Copies may be obtained from American Eurocopter Corporation, 2701 Forum Drive, Grand Prairie, Texas 75053-4005, telephone (972) 641-3460, fax (972) 641-3527. Copies may be inspected at the National Archives and Records Administration (NARA). For information on the availability of this material at NARA, call 202-741-6030, or go to: http://www.archives.gov/federal_register/code_of_federal_regulations/ibr_locations.html.

(f) This amendment becomes effective on July 29, 2005.

Note: The subject of this AD is addressed in Direction Générale De L'Aviation Civile (France) AD No. F-2002-474-058 R1, dated March 3, 2004 and AD No. F-2004-099, dated July 7, 2004.

Issued in Fort Worth, Texas, on June 10, 2005.
S. Frances Cox,
Acting Manager, Rotorcraft Directorate, Aircraft Certification Service.

[FR Doc. 05-12418 Filed 6-23-05; 8:45 am]

BILLING CODE 4910-13-P